DEPARTMENT OF THE INTERIOR

Bureau of Land Management

[ID-200-1120-DD-241A]

Notice of Public Meeting, Twin Falls District Resource Advisory Council Meeting, Idaho

AGENCY: Bureau of Land Management, Interior.

ACTION: Notice of public meeting.

SUMMARY: In accordance with the Federal Land Policy and Management Act (FLPMA), the Federal Advisory Committee Act of 1972 (FACA), and the Federal Lands Recreation Enhancement Act of 2004 (FLREA), the U.S. Department of the Interior, Bureau of Land Management (BLM) Twin Falls District Resource Advisory Council (RAC) will meet as indicated below.

DATES: February 21, 2008. The meeting will start at 8:30 a.m. and end no later than 4 p.m. The public comment period will be from 9:30 a.m. to 10 a.m. The meeting will be held at the Red Lion Canyon Springs Hotel, 1357 Blue Lakes Boulevard, Twin Falls, Idaho, 83301.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. The agenda will include the following topics: welcome to new members, Field Office updates, energy projects discussion, Twin Falls District fire rehabilitation efforts and planning for upcoming tours for the RAC. Additional topics may be added and will be included in local media announcements. More information is available at www.blm.gov/id/st/en/res/resource_advisory.3.html.

All meetings are open to the public. The public may present written comments to the RAC in advance of or at the meeting. Each formal RAC meeting will also have time allocated for receiving public comments. Depending on the number of persons wishing to comment and time available, the time for individual oral comments may be limited. Individuals who plan to attend and need special assistance, such as sign language interpretation or other reasonable accommodations, should contact the BLM as provided above.

Dated: January 15, 2008.
Bill Baker,
District Manager.

[FR Doc. E8-1134 Filed 1-23-08; 8:45 am]

BILLING CODE 4310-GG-P